DEPARTMENT OF HOMELAND SECURITY

Agreement Between the Government of the United States of America and the Government of the Republic of Honduras for Cooperation in the Examination of Protection Claims

AGENCY: Office of Strategy, Policy, and Plans, Department of Homeland Security.

ACTION: Notice of agreement.

SUMMARY: The Department of Homeland Security is publishing the Agreement Between the Government of the United States of America and the Government of the Republic of Honduras for Cooperation in the Examination of Protection Claims. The text of the Agreement is set out below.

Valerie Boyd,
Assistant Secretary for International Affairs, Office of Strategy, Policy, and Plans, U.S. Department of Homeland Security.

BILLING CODE 9110-9-P

[FR Doc. 2020-09322 Filed 4-30-20; 8:45 am]

BILLING CODE 9110-9M-C